Proclamation 10210 of May 14, 2021

Armed Forces Day, 2021

By the President of the United States of America

A Proclamation

On Armed Forces Day, we honor and offer our profound appreciation and gratitude to the patriots who are serving in our Nation's Army, Navy, Air Force, Marine Corps, Space Force, and Coast Guard. Their professionalism and unwavering dedication to supporting and defending our Constitution has been vital in allowing our democracy to flourish, safeguarding peace and growing prosperity for our citizens, and giving hope to oppressed peoples or those facing tyranny abroad. Less than one percent of Americans serve on active duty in the Armed Forces. Those who do volunteer to put their lives on the line to protect our country and democracy wherever they are called to serve. Whether they are Active Duty, National Guard, or in the Reserve, they are true American heroes, and we all owe them.

Our military members do not swear allegiance to an individual, group, or political party. Their oath is to the United States Constitution. By bringing together people from different races, religions, and sexual orientations and melding them into a cohesive fighting force, our military embodies the promise of our democratic experiment. My Administration is determined to foster an environment that empowers our Armed Forces and improves retention and promotion of the best talent, to strengthen military readiness. Any ideology, actions, or influences that seek to undermine this solidarity must be exposed and eliminated.

The unmatched strength of the United States Armed Forces reflects our greatest strength as a people, our diversity. Our military has proven—time and time again—that the insistent pursuit of greater inclusion and equality makes us a more robust, more resilient, and more powerful Nation. As we pay tribute to those who serve, we acknowledge our continuing obligation to ensure that all qualified and willing Americans who wish to serve in the United States Armed Forces are able to do so openly and free from discrimination.

My Administration is committed to confronting and driving out sexual assault and harassment, so that all members of the Armed Services feel safe and welcome in the ranks. We will improve retention and promotion of our best talent by using a single standard, one based on excellence.

The Biden family knows personally that the burden of service does not fall solely on those who wear a uniform. Our military family members also serve our country and make great sacrifices to support their loved ones. They give their best to their service members, and we must give our best to ensuring military families have what they need to thrive. This is a national security imperative that supports military retention and readiness, and my Administration is committed to supporting policies that promote the well-being of our war fighters and their families.

Through the First Lady's work with Joining Forces, the White House has committed to supporting military and veteran families, caregivers, and survivors through economic and entrepreneurship opportunities, support for military child education, and health and well-being resources. Joining Forces will continue to convene and collaborate with Federal agency partners, non-profit organizations, corporate stakeholders, and service providers to develop comprehensive, meaningful, and long-term solutions to address the holistic well-being of military and veteran families, caregivers, and survivors.

The United States Armed Forces are the greatest fighting force in the history of the world. They defend universal values and advance the cause of freedom around the globe. On this day, we salute and show gratitude for all who serve and commit to ensuring our Armed Forces remain strong, united, and unmatched.

NOW, THEREFORE, I, JOSEPH R. BIDEN JR., President of the United States of America, and Commander in Chief of the Armed Forces of the United States, continuing the precedent of my predecessors in office, do hereby proclaim the third Saturday of each May as Armed Forces Day.

I direct the Secretary of Defense on behalf of the Army, Navy, Air Force, Marine Corps, Space Force, and the Secretary of Homeland Security on behalf of the Coast Guard, to plan for appropriate observances each year, with the Secretary of Defense responsible for soliciting the participation and cooperation of civil authorities and private citizens. I invite the Governors of the States, the Commonwealth of Puerto Rico, and other areas subject to the jurisdiction of the United States, to provide for the observance of Armed Forces Day within their jurisdiction each year in an appropriate manner designed to increase public understanding and appreciation of the Armed Forces of the United States. I also invite veterans, civic leaders, and other organizations to join in the observance of Armed Forces Day each year.

Finally, I call upon all Americans to display the flag of the United States at their homes and businesses on Armed Forces Day, and I urge citizens to learn more about military service by attending and participating in the local observances of the day.

Proclamation 10034 of May 15, 2020, is hereby superseded.

IN WITNESS WHEREOF, I have hereunto set my hand this fourteenth day of May, in the year of our Lord two thousand twenty-one, and of the Independence of the United States of America the two hundred and forty-fifth.

[FR Doc. 2021-10687

Filed 5-18-21; 8:45 am]

Billing code 3295-F1-P